ENVIRONMENTAL PROTECTION AGENCY

40 CFR Part 52

[EPA-R06-OAR-2022-0907; FRL-11174-01-R6]

Air Plan Approval; Arkansas; Revisions to Rule 19 of the Arkansas Plan

AGENCY: Environmental Protection Agency (EPA).

ACTION: Proposed rule.

SUMMARY: Pursuant to the Federal Clean Air Act (CAA or the Act), the Environmental Protection Agency (EPA) is proposing to approve portions of the revisions to the Arkansas State Implementation Plan (SIP) including revisions to the Arkansas Pollution Control and Ecology Commission's (“Commission” or APC&EC) Rule No. 19, Rules of the Arkansas Plan of Implementation for Air Pollution Control submitted by the Arkansas Department of Energy and Environment, Division of Environmental Quality (DEQ) via the Arkansas Governor's Office on June 22, 2022. Most of the revisions are administrative in nature and make the SIP current with Federal rules.

DATES: Written comments must be received on or before September 21, 2023.

ADDRESSES: Submit your comments, identified by Docket No. EPA-R06-OAR-2022-0907, at https://www.regulations.gov or via email to steib.clovis@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Clovis Steib, 214-665-7566, steib.clovis@epa.gov. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Clovis Steib, EPA Region 6 Office, Infrastructure and Ozone Section, Air and Radiation Division, 214-665-7566, steib.clovis@epa.gov. We encourage the public to submit comments via https://www.regulations.gov. Please call or email the contact listed above if you need alternative access to material indexed but not provided in the docket.

SUPPLEMENTARY INFORMATION: Throughout this document wherever “we,” “us,” or “our” is used, we mean the EPA.

I. Background

The SIP is a set of air pollution regulations, control strategies, and technical analyses developed by the state to implement, maintain, and enforce the National Ambient Air Quality Standards, or NAAQS, and to fulfill other requirements of the Clean Air Act. The NAAQS are established under section 109 of the Act, and they currently address six criteria pollutants: carbon monoxide, lead, nitrogen dioxide, ozone, particulate matter, and sulfur dioxide. The SIP is required by Section 110 of the Act and can be extensive, containing state regulations or other enforceable documents and supporting information such as emission inventories, monitoring networks, and modeling demonstrations.

The Arkansas SIP is the air quality protection strategy implemented by the Department of Energy and Environment's Division of Environmental Quality (DEQ) pursuant to the CAA. The SIP consists of laws and rules, nonregulatory and quasi-regulatory measures, and other state enforceable requirements codified at 40 CFR 52 subpart E. The Arkansas SIP is federally enforceable. The Arkansas SIP was first approved by the EPA in 1972 (37 FR 10841). All revisions to the SIP require EPA approval.

On June 22, 2022, Arkansas submitted to the EPA revisions to the Arkansas SIP.¹ The submitted revisions address APC&EC Regulation 19, Rules of the Arkansas Plan of Implementation for Air Pollution Control, with corresponding chapters and appendices. The revisions restructure the regulations and organize them as rules, such that Regulation 19 becomes Rule 19, Rules of the Arkansas Plan of Implementation for Air Pollution Control, with corresponding chapters and appendices. The revisions also remove certain outdated provisions and update other provisions that are incorporated into Regulation 19. Specific provisions to be repealed are those in Chapter 10 of APC&EC Regulation 19 regarding the control of volatile organic compounds (VOC) from certain source categories in Pulaski County, provisions for the Clean Air Interstate Rule (CAIR) in Chapter 14, and informational provisions regarding sources eligible or subject to best available retrofit technology (BART) requirements for Regional Haze in Chapter 15.

¹ The cover letter on the submitted revisions is dated May 12, 2022, but the submittal package was not submitted to EPA until June 22, 2022.

Additionally, the submitted revisions address regulatory provisions in Chapters 1, 2, 3, 4, 5, 6, 7, 9, 11, 13, 16, 18, and Appendices A and B of Regulation 19.² These changes reflect the current organizational structure of ADEQ, remove outdated information, and make non-substantive formatting edits.

² See accompanying Technical Support Document (TSD) available in the docket for this rulemaking.

The submitted revisions to Chapter 10 also address an EPA-identified deficiency within the Arkansas SIP related to the 2015 Startup, Shutdown, and Malfunction (SSM) SIP Call for Regulation. 19.1004(H).³ The EPA plans to address this matter in a separate Federal Register action.

³ See “State Implementation Plans: Response to Petition for Rulemaking; Restatement and Update of EPA's SSM Policy Applicable to SIPs; Findings of Substantial Inadequacy; and SIP Calls To Amend Provisions Applying to Excess Emissions During Periods of Startup, Shutdown and Malfunction,” (80 FR 33839, June 12, 2015).

II. The EPA's Evaluation

A. Regulation 19, Chapter 10—Control of VOCs in Pulaski County

These rules address Pulaski County because in March 1978, the EPA designated Pulaski County, Arkansas, as a nonattainment area for ozone (43 FR 8969, March 3, 1978). Pulaski County subsequently met the ozone NAAQS and in September 1984, the EPA approved the State's request to redesignate Pulaski County to attainment (49 FR 37753, September 26, 1984). Since redesignation, Pulaski County has maintained compliance with all the ozone NAAQS. In this action, we are proposing to approve revisions to Regulation 19.1001 and 19.1002 which are non-substantive. We are also proposing to approve the submitted revisions to 19.1003 through 19.1006. Although the submitted revisions to 19.1003 through 19.1006 are substantive in nature, they are superseded by more stringent federal requirements. VOC emissions are not expected to increase because existing and new sources subject to Chapter 10 in Pulaski County are subject to the more stringent federal requirements for New Source Performance Standards (NSPS) and National Emission Standards for Hazardous Air Pollutants (NESHAP). The EPA's analysis of the submitted revisions, and confirmation that VOC emissions will not increase, is included in the TSD for this action. As a result, consistent with CAA section 110(l), we do not expect these revisions to interfere with any applicable requirement concerning attainment and reasonable further progress or any other applicable requirement of the Act.

B. Regulation 19, Chapter 14—CAIR Requirements

Provisions for the CAIR NOX Ozone Season Trading Program were approved into the Arkansas SIP on September 26, 2007 (72 FR 54556).⁴ On July 11, 2008, the U.S. Court of Appeals for the District of Columbia vacated and remanded the CAIR program to the EPA. The submitted revisions include the repeal of the Regulation 19, Chapter 14 CAIR provisions consistent with the court's decision. This revision is approvable because there are no federal requirements for the Arkansas SIP or sources in Arkansas to continue complying with the CAIR NOX Ozone Season Trading Program or the provisions in Rule, Chapter 14.

⁴ Oxides of Nitrogen (NOX) and VOC are precursors to ozone formation.

C. Regulation 19, Chapter 15—Best Available Retrofit Technology

Arkansas Regulation 19, Chapter 15 was approved by the EPA into the SIP on March 12, 2012,⁵ except for certain portions of Regulation 19.1504 and 19.1505. The submitted revisions address Regulation 19.1501, 19.1502, 19.1503, 19.1504, 19.1505, 19.1506, and 19.1507. We are proposing to approve these revisions because they fall into one or more of the following categories: (1) the revisions are non-substantive and/or are formatting edits; (2) the revisions improve the readability of the provision; (3) the revisions repeal provisions that do not contain enforceable requirements and as a result are not required to be part of the SIP; or (4) the revisions repeal provisions that are not in the approved SIP. The revisions to Chapter 15 do not repeal or relax any existing control requirements in the SIP and therefore the EPA does not anticipate any emission increases associated with the revisions to Chapter 15. Consistent with CAA section 110(l), we do not expect these revisions to interfere with any applicable requirement concerning attainment and reasonable further progress or any other applicable requirement of the Act. We provide our analysis of the submitted revisions to Chapter 15 in the paragraphs that follow.

⁵ See 77 FR 14603 (March 12, 2012).

Regulation 19.1501 “Purpose”

Regulation 19.1501 states the purpose of Regulation 19, Chapter 15, but does not contain enforceable requirements. The submitted revisions to Regulation 19.1501 provide a more precise description of the purpose of Chapter 15. Therefore, we are proposing to approve these submitted revisions to Regulation 19.1501.

Regulation 19.1502 “Definitions”

The submitted revisions to Regulation 19.1502 are non-substantive formatting edits. We are proposing to approve the submitted revisions to Regulation 19.1502.

Regulation 19.1503 “BART Eligible Sources”

Arkansas Regulation 19.1503 identifies the BART-eligible sources within the State. The submitted revision to Regulation 19.1503 repeals the provision in its entirety and places the subsection in reserve. Arkansas explained in Appendix A of the submitted revisions that Regulation 19.1503 consists of an informational table that does not contain enforceable requirements and is not necessary to identify the sources subject to the requirements of Chapter 15 that are in the SIP, as identified in Rule 19.1505.⁶ Furthermore, the informational table in Rule 19.1503 is also contained in the SIP submittal narrative for the Arkansas Regional Haze Planning Period 1, Phase II SIP revision, which the EPA previously approved.⁷ The repeal of Regulation 19.1503 does not change the State's determination of BART-eligible sources in Arkansas. Thus, we are proposing to approve the submitted revision to Regulation 19.1503.

⁶ See “Appendix A: Technical Support Document, Changes to the Rules of the State Implementation Plan,” pages 5-6. Appendix A is part of the submitted revisions and is found in the docket for this proposed rulemaking.

⁷ See 84 FR 51033 (September 27, 2019).

Regulation 19.1504 “Facilities Subject to BART”

Regulation 19.1504 consists of Regulation 19.1504(A), (B), and (C). The submitted revisions to Regulation 19.1504 repeal and move provisions and place the subsection in reserve. The submitted revisions repeal Regulation 19.1504(A) and move the provisions of Regulation 19.1504(B) and (C) to Regulation 19.1506 with edits to the language.

Arkansas explained in Appendix A of the submitted revisions that Regulation 19.1504(A) consists of an informational table that identifies the sources in Arkansas that are subject to BART but the table itself does not contain any enforceable requirements.⁸ Regulation 19.1504(A) is not necessary to identify the sources subject to the requirements of Chapter 15 that are in the SIP, as those sources are identified in Regulation 19.1505.⁹ Furthermore, the informational table in Regulation 19.1504(A) is also contained in the SIP submittal narrative for the Arkansas Regional Haze Planning Period 1, Phase II SIP revision, which the EPA approved in a final rule.¹⁰ Thus, the repeal of Regulation 19.1504(A) does not change the State's determination of subject-to-BART sources in Arkansas. We are proposing to approve the revision to Regulation 19.1504(A).

⁸ “Appendix A: Technical Support Document, Changes to the Rules of the State Implementation Plan,” pages 5-6. Appendix A is part of the submitted revision and is found in the docket for this proposed rulemaking.

⁹ Ibid.

¹⁰ See 84 FR 51033 (September 27, 2019).

Regulation 19.1504(B) contains BART compliance date requirements. The submitted revisions to Regulation 19.1504(B) move Regulation 19.1504(B) to Regulation 19.1506(A) with non-substantive revisions to the language and deletion of the portion not in the approved SIP.¹¹ Regulation 19.1504(C) contains provisions requiring sources subject to BART to maintain the control equipment required by Chapter 15 and to establish procedures to ensure such equipment is properly operated and maintained. The submitted revisions to Regulation 19.1504(C) move these provisions to Regulation 19.1506(B) and (C) with non-substantive revisions to the language. Moving the provisions in Rule 19.1504(B) and (C) to Rule 19.1506(A), (B) and (C) results in the consolidation of the compliance provisions for sources subject to the requirements of Chapter 15. For these reasons, we are proposing to approve the revisions to Regulation 19.1504(B) and (C).

¹¹ Only a portion of Rule 19.1504(B) is in the approved SIP. This portion is the requirement for each source subject to BART to install and operate BART as expeditiously as practicable, but in no event later than 5 years after the EPA approval of that source's BART determination. (See 77 FR 14604, 14675, March 12, 2012).

Regulation 19.1505 “Best Available Retrofit Technology Requirements”

Arkansas Regulation 19.1505 consists of BART emission limits for subject-to-BART sources in Arkansas that are subject to the requirements of Chapter 15. The submitted revisions make a minor amendment to the title of Regulation 19.1505, remove all provisions that are not currently in the approved SIP,¹² and restructure and make other non-substantive edits to the provisions in the approved SIP. Because of our prior disapproval,¹³ the following provisions were never approved into the Arkansas SIP and thus, the State's removal of this language from its State rules is a non-substantive change: Regulation 19.1505(A)(1) and (A)(2); 19.1505(B); 19.1505(C); 19.1505(D)(1) and (D)(2); 19.1505(E)(1), (E)(2), and (E)(3); 19.1505(F)(1) and (F)(2); 19.1505(G)(1) and (G)(2); 19.1505(H); 19.1505(I)(1) and (I)(2); 19.1505(J)(1) and (J)(2); 19.1505(K); 19.1505(L); 19.1505(M)(1); and 19.1505(N)(1), (N)(2), and (N)(3). Because these submitted revisions delete previously disapproved language, we are proposing to remove our prior disapproval of the provisions of Regulation 19.1505 (77 FR 14604).

¹² 77 FR 14604, 14675.

¹³ 77 FR 14604, 14675.

The submitted revisions also remove Regulation 19.1505(D)(3). This provision was approved by the EPA at 77 FR 14604, and therefore, the repeal of Regulation 19.1505(D)(3) is a substantive change. In a final rule published on March 22, 2021, we approved BART alternative requirements under 40 CFR 51.308(e)(2) that replaced the provision under Regulation 19.1505(D)(3).¹⁴ Therefore, the repeal of Regulation 19.1503(D)(3) does not relax any existing requirements in the SIP. In fact, it is necessary for Arkansas to remove Regulation 19.1505(D)(3) from its State rules and the SIP given that the BART requirements contained in Regulation 19.1505(D)(3) have been replaced.¹⁵ For this reason, we are proposing to approve the submitted revision to repeal Regulation 19.1505(D)(3).

¹⁴ The EPA finalized approval of the State's withdrawal of the PM10 BART determination of 0.07 lb/MMBtu for Ashdown Mill #1 Power Boiler, SN-03 and approved its replacement with the PM10 BART alternative limit in the Arkansas Regional Haze Phase III SIP submittal (See 86 FR 15104, 15130, March 22, 2021).

¹⁵ The current BART requirements approved in the SIP for Domtar Ashdown Mill #1 Power Boiler, SN-03 are found in Permit #0287-AOP-R22. (See 86 FR at 15131).

The submitted revisions also restructure some of the remaining provisions under Regulation 19.1505, which results in greater clarity and concision of those provisions. Therefore, we are proposing to approve these revisions.

Regulation 19.1506 “Compliance Provisions”

Regulation 19.1506 consists of compliance provisions for sources subject to the requirements of Chapter 15. The submitted revisions update and consolidate the compliance requirements that were previously in Regulation 19.1504(B) ¹⁶ and (C) with edits that are non-substantive. For these reasons, we are proposing to approve the submitted revisions to Regulation 19.1506.

¹⁶ As discussed earlier, only a portion of Regulation 19.1504(B) is in the approved SIP.

Regulation 19.1507 “Permit Reopening”

Regulation 19.1507 is a provision that makes subject-to-BART sources subject to reopening of their permit to incorporate the requirements of Regulation 19.1505. The submitted revision to Regulation 19.1507 repeals the provision in its entirety and places the subsection in reserve. Although the revision is substantive, it does not relax any existing requirements in the SIP. Arkansas explained in Appendix A of the submitted revisions that this provision is no longer relevant as the only requirements that remain in Regulation 19.1505 are based on existing permit conditions.¹⁷ For this reason, we are proposing to approve the submitted revision to Regulation 19.1507.

¹⁷ See “Appendix A: Technical Support Document, Changes to the Rules of the State Implementation Plan,” page 6. Appendix A is part of the Arkansas SIP submittal dated May 12, 2022 and is found in the docket for this proposed rulemaking.

D. CAA Section 110(l) Evaluation

The submitted revisions to Regulation 19 add clarity, consistency, and overall strengthen the Arkansas SIP. The revisions do not relax the current SIP approved rules and are consistent with Federal regulations. Therefore, and consistent with CAA section 110(l), we do not expect these revisions to interfere with any applicable requirement concerning attainment and reasonable further progress or any other applicable requirement of the Act.

III. Proposed Action

For the reasons described in this action and in the TSD, we are proposing to approve a portion of revisions to the Arkansas SIP submitted on June 22, 2022. Specifically, we are proposing to approve the following submitted revisions to Regulation 19: renaming Regulation 19 as Rule 19; revisions to Chapters 1, 2, 3, 4, 5, 6, 7, 9, 11, 13, 15, and Appendices A and B of Regulation 19. We are also proposing to approve the partial repeal of Regulation 19, Chapter 10 and repeal of Regulation 19, Chapters 14, and 16; and the new provision of Regulation 19, Chapter 18. We are proposing to approve these revisions in accordance with section 110 of the Act.

IV. Environmental Justice Considerations

The EPA reviewed demographic data for groups of populations living within Pulaski County, Arkansas. The EPA then compared the data to the State of Arkansas and the national average for each of the demographic groups. The results of this analysis are being provided for information and transparency purposes. The results of the demographic analysis indicate that that for populations living within Pulaski County, the percent people of color (persons who reported their race as a category other than white alone (not Hispanic or Latino)) is above the national average for Pulaski County; and below the national average for the State of Arkansas as a whole (49.3 and 28.7 percent, respectively versus 40.7 percent). Within people of color, the percent of the population that is Black or African American alone is significantly above the national average for Pulaski County and above the national average for the State as a whole (38.3 and 15.7 percent, respectively versus 13.6 percent), and the percent of the population that is American Indian/Alaska Native is below the national average for both Pulaski County and the State as a whole (0.5 and 1.1 percent, respectively versus 1.3 percent).

This proposed action revises portions of the Arkansas SIP including revisions to Rule 19 of the Arkansas Plan of Implementation for Air control. We expect that this action and resulting emissions reductions will generally be neutral or contribute to reduced environmental and health impacts on all populations in the State of Arkansas, including people of color and low-income populations. The proposed revisions will provide updates to the SIP and improve clarity in the SIP so that the public can read and understand what is currently in the SIP. Further, there is no information in the record indicating that this action is expected to have disproportionately high or adverse human health or environmental effects on a particular group of people.

V. Incorporation by Reference

In this action, we are proposing to include in a final rule regulatory text that includes incorporation by reference. In accordance with the requirements of 1 CFR 51.5, we are proposing to incorporate by reference revisions to the Arkansas regulations as described in Sections II, The EPA's Evaluation, and III, Proposed Action, of this preamble. These state regulations contain the air pollution control provisions for the State of Arkansas. We have made, and will continue to make, these documents generally available electronically through www.regulations.gov (please contact the person identified in the FOR FURTHER INFORMATION CONTACT section of this preamble for more information).

VI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001);

• Is not subject to requirements of section 12(d) of the National Technology Transfer and Advancement Act of 1995 (15 U.S.C. 272 note) because application of those requirements would be inconsistent with the CAA.

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” ¹⁸ The EPA further defines the term fair treatment to mean that “no group of people should bear a disproportionate burden of environmental harms and risks, including those resulting from the negative environmental consequences of industrial, governmental, and commercial operations or programs and policies.” ¹⁹

¹⁸ See https://www.epa.gov/environmentaljustice/learn-about-environmental-justice.

¹⁹ https://www.epa.gov/environmentaljustice/learn-about-environmental-justice.

ADEQ did not evaluate Environmental Justice considerations as part of its SIP submittal; the CAA and applicable implementing regulations neither prohibit nor require such an evaluation. The EPA performed an EJ analysis, as is described earlier in the section titled, “Environmental Justice Considerations.” The analysis was done for the purpose of providing additional context and information about this rulemaking to the public, not as a basis of the action. Due to the nature of the action being taken here, this action is expected to have a neutral to positive impact on the air quality of the affected area. In addition, there is no information in the record upon which this decision is based inconsistent with the stated goal of E.O. 12898 of achieving EJ for people of color, low-income populations, and Indigenous peoples.

List of Subjects in 40 CFR Part 52

Environmental protection, Air pollution control, Ammonia, Carbon oxides, Incorporation by reference, Intergovernmental relations, Lead, Nitrogen oxides, Ozone, Reporting and recordkeeping requirements, Sulfur oxides, Volatile organic compounds.

Authority: 42 U.S.C. 7401 et seq.

Dated: August 15, 2023.
Earthea Nance,
Regional Administrator, Region 6.

[FR Doc. 2023-17944 Filed 8-21-23; 8:45 am]

BILLING CODE 6560-50-P